DEPARTMENT OF TRANSPORTATION

Federal Aviation Administration

14 CFR Part 71

[Docket No. FAA-2023-1477; Airspace Docket No. 19-ANM-27]

RIN 2120-AA66

Modification of Class D Airspace; Revocation of Class E Airspace; Centennial Airport, Denver, CO

AGENCY: Federal Aviation Administration (FAA), DOT.

ACTION: Notice of proposed rulemaking (NPRM).

SUMMARY: This action proposes to modify Class D airspace and revoke Class E airspace designated as an extension to a Class D or Class E surface area at Centennial Airport (APA), Denver, CO. Additionally, this action would amend administrative texts with Centennial Airport's legal description. This action would support instrument flight rules (IFR) and visual flight rules (VFR) operations at the airport.

DATES: Comments must be received on or before October 24, 2024.

ADDRESSES: Send comments identified by FAA Docket No. FAA-2023-1477 and Airspace Docket No. 19-ANM-27 using any of the following methods:

* Federal eRulemaking Portal: Go to www.regulations.gov and follow the online instructions for sending your comments electronically.

* Mail: Send comments to Docket Operations, M-30; U.S. Department of Transportation, 1200 New Jersey Avenue SE, Room W12-140, West Building Ground Floor, Washington, DC 20590-0001.

* Hand Delivery or Courier: Take comments to Docket Operations in Room W12-140 of the West Building Ground Floor at 1200 New Jersey Avenue SE, Washington, DC, between 9 a.m. and 5 p.m., Monday through Friday, except Federal holidays.

* Fax: Fax comments to Docket Operations at (202) 493-2251.

Docket: Background documents or comments received may be read at www.regulations.gov at any time. Follow the online instructions for accessing the docket or go to the Docket Operations in Room W12-140 of the West Building Ground Floor at 1200 New Jersey Avenue SE, Washington, DC, between 9 a.m. and 5 p.m., Monday through Friday, except Federal holidays.

FAA Order JO 7400.11H, Airspace Designations and Reporting Points, and subsequent amendments can be viewed online at www.faa.gov/air_traffic/publications/. You may also contact the Rules and Regulations Group, Office of Policy, Federal Aviation Administration, 800 Independence Avenue SW, Washington, DC 20591; telephone: (202) 267-8783.

FOR FURTHER INFORMATION CONTACT: Keith T. Adams, Federal Aviation Administration, Western Service Center, Operations Support Group, 2200 S 216th Street, Des Moines, WA 98198; telephone (206) 231-2428.

SUPPLEMENTARY INFORMATION:

Authority for This Rulemaking

The FAA's authority to issue rules regarding aviation safety is found in Title 49 of the United States Code. Subtitle I, Section 106, describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it would modify Class D airspace and revoke Class E airspace designated as an extension to a Class D or Class E surface area to support IFR and VFR operations at Centennial Airport, Denver, CO.

Comments Invited

The FAA invites interested persons to participate in this rulemaking by submitting written comments, data, or views. Comments are specifically invited on the overall regulatory, aeronautical, economic, environmental, and energy-related aspects of the proposal. The most helpful comments reference a specific portion of the proposal, explain the reason for any recommended change, and include supporting data. To ensure the docket does not contain duplicate comments, commenters should submit only one time if comments are filed electronically, or commenters should send only one copy of written comments if comments are filed in writing.

The FAA will file in the docket all comments it receives, as well as a report summarizing each substantive public contact with FAA personnel concerning this proposed rulemaking. Before acting on this proposal, the FAA will consider all comments it receives on or before the closing date for comments. The FAA will consider comments filed after the comment period has closed if it is possible to do so without incurring expense or delay. The FAA may change this proposal in light of the comments it receives.

Privacy: In accordance with 5 U.S.C. 553(c), DOT solicits comments from the public to better inform its rulemaking process. DOT posts these comments, without edit, including any personal information the commenter provides, to www.regulations.gov, as described in the system of records notice (DOT/ALL-14 FDMS), which can be reviewed at www.dot.gov/privacy.

Availability of Rulemaking Documents

An electronic copy of this document may be downloaded through the internet at www.regulations.gov. Recently published rulemaking documents can also be accessed through the FAA's web page at www.faa.gov/air_traffic/publications/airspace_amendments/.

You may review the public docket containing the proposal, any comments received and any final disposition in person in the Dockets Operations office (see ADDRESSES section for address, phone number, and hours of operations). An informal docket may also be examined during normal business hours at the office at the Northwest Mountain Regional Office of the Federal Aviation Administration, Air Traffic Organization, Western Service Center, Operations Support Group, 2200 S 216th Street, Des Moines, WA 98198.

Incorporation by Reference

Class D airspace and Class E4 airspace designations are published in paragraph 5000 and 6004 of FAA Order JO 7400.11, Airspace Designations and Reporting Points, which is incorporated by reference in 14 CFR 71.1 on an annual basis. This document proposes to amend the current version of that order, FAA Order JO 7400.11H, dated August 11, 2023, and effective September 15, 2023. These updates would be published in the next update to FAA Order JO 7400.11. That order is publicly available as listed in the ADDRESSES section of this document.

FAA Order JO 7400.11H lists Class A, B, C, D, and E airspace areas, air traffic service routes, and reporting points.

Background

Centennial Airport's airspaces are concurrently being evaluated with the Class D and Class E airspaces associated with Buckley Space Force Base (BKF), Aurora, CO. APA and BKF Category D aircraft's instrument approach procedures (IAP)-approved radius for conducting a circling maneuver overlaps in Class E airspace. APA's Category D aircraft conducting a circling maneuver to Runway 17 Left flight pattern extends beyond the airport's Class D airspace lateral boundary. Additionally, APA and BKF Class D airspaces are separated by less than .30 nautical miles (NM). This narrow airspace area is comprised of controlled and uncontrolled airspaces; this creates an unfavorable passage as VFR aircraft navigate between the two airports' surface areas.

The Proposal

The FAA is proposing an amendment to 14 CFR part 71 to modify the Class D airspace and revoke the Class E airspace designated as an extension to a Class D or Class E surface area at Centennial Airport, Denver, CO, to support IFR and VFR operations at the airport.

The airport's Class D airspace lateral boundary should be modified to extend 3.9 NM northwest and 4.6 NM southeast from the airport's 038° bearing extending 4.6 NM northeast. This expansion along with the proposed airspace modification associated with BKF would merge both airport's surface areas, which would require transiting VFR aircraft to utilize 500 feet of Class E airspace area between the tops of BKF Class D airspace and the floor of the Denver Class B airspace. Additionally, the Class D should be expanded from a 4.4 NM radius to a 6.4 NM radius between the airports 083° bearing clockwise to the 201° bearing. Due to rising terrain, this modification would better contain instrument departures as the aircraft reaches 700 feet above the surface of the earth. The Class D should also extend from a 4.4 NM radius to a 4.9 NM radius between the airport's 201° bearing clockwise to the 347° bearing to better contain aircraft conducting a circling maneuver at the airport.

The Class E airspace designated as an extension to a Class D or Class E surface area should be revoked. The airport's proposed Class D new lateral dimension would contain all obligated IFR requirements that would be necessary in the continuation of the airport's Class E airspace.

Lastly, the FAA is proposing a few administrative amendments to the airport's legal description. The city's name should be amended from Englewood to Denver. The airport's geographic coordinates should be amended to 39°34′12″ N, long 104°50′57″ W. The part-time language should be removed as the facility operates 24 hours daily.

Regulatory Notices and Analyses

The FAA has determined that this proposed regulation only involves an established body of technical regulations for which frequent and routine amendments are necessary to keep them operationally current. It, therefore: (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this proposed rule, when promulgated, will not have a significant economic impact on a substantial number of small entities under the criteria of the Regulatory Flexibility Act.

Environmental Review

This proposal will be subject to an environmental analysis in accordance with FAA Order 1050.1F, “Environmental Impacts: Policies and Procedures,” prior to any FAA final regulatory action.

List of Subjects in 14 CFR Part 71

Airspace, Incorporation by reference, Navigation (air).

The Proposed Amendment

In consideration of the foregoing, the Federal Aviation Administration proposes to amend 14 CFR part 71 as follows:

PART 71—DESIGNATION OF CLASS A, B, C, D, AND E AIRSPACE AREAS; AIR TRAFFIC SERVICE ROUTES; AND REPORTING POINTS

1. The authority citation for 14 CFR part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11H, Airspace Designations and Reporting Points, dated August 11, 2023, and effective September 15, 2023, is amended as follows:

Paragraph 5000 Class D Airspace

* * * * *

ANM CO D Denver, CO [Amended]

Centennial Airport, CO

(Lat. 39°34′12″ N, long. 104°50′57″ W)

That airspace extending upward from the surface to but not including 8,000 feet MSL within 3.9 miles northwest and 4.6 miles southeast of the airport's 038° bearing extending to 4.6 miles northeast, within a 6.4-mile radius from the airport's 083° bearing clockwise to 201° bearing, and within a 4.9-mile radius from the airport's 201° bearing clockwise to the 347° bearing.

* * * * *

Paragraph 6004 Class E Airspace Designated as an Extension to a Class D or Class E Surface Area.

* * * * *

ANM CO E4 Englewood, CO [Removed]

* * * * *

Issued in Des Moines, Washington, on September 3, 2024.
B.G. Chew,
Group Manager, Operations Support Group, Western Service Center.

[FR Doc. 2024-20194 Filed 9-6-24; 8:45 am]

BILLING CODE 4910-13-P